ENVIRONMENTAL PROTECTION AGENCY

[FRL-7596-9]

Notice of Tentative Approval and Solicitation of Request for a Public Hearing for Public Water System Supervision Program Revisions for the State of Maryland

AGENCY: Environmental Protection Agency (EPA).

ACTION: Notice of tentative approval and solicitation of requests for a public hearing.

SUMMARY: Notice is hereby given in accordance with the provision of section 1413 of the Safe Drinking Water Act as amended, and the National Primary Drinking Water Regulations Implementation 40 CFR part 142, that the State of Maryland is revising its approved Public Water System Supervision Program. Maryland has adopted the Public Notification Rule requiring the owner or operator of a public water system to give notice to the public for all violations of national primary drinking water regulations as well as for failure to comply with a prescribed treatment technique, for failure to perform required water quality monitoring or for failure to comply with prescribed testing procedures. It has also adopted the Lead and Copper Rule Minor Revisions, which makes minor changes to the existing Lead and Copper Rule, as well as adopting several other minor revisions to its regulations. EPA has determined that these revisions, all effective April 29, 2002, are no less stringent than the corresponding Federal regulations. Therefore, EPA has decided to tentatively approve these program revisions. All interested parties are invited to submit written comments on this determination and may request a public hearing.

DATES: Comments or a request for a public hearing must be submitted by January 8, 2004. This determination shall become effective on January 8, 2004, if no timely and appropriate request for a hearing is received and the Regional Administrator does not elect to hold a hearing on his own motion, and if no comments are received which cause EPA to modify its tentative approval.

ADDRESSES: Comments or a request for a public hearing must be submitted to the U.S. Environmental Protection Agency Region III, 1650 Arch Street, Philadelphia, PA 19103-2029. Comments may also be submitted electronically to Steve Maslowski at maslowski.steven@epa.gov.

All documents relating to this determination are available for inspection between the hours of 8 a.m. and 4:30 p.m., Monday through Friday, at the following offices:

• Drinking Water Branch, Water Protection Division, U.S. Environmental Protection Agency Region III, 1650 Arch Street, Philadelphia, PA 19103-2029.

• Water Supply Program, Maryland Department of the Environment, Montgomery Park Business Center, 1800 Washington Blvd, Baltimore, MD 21230.

FOR FURTHER INFORMATION CONTACT: Steve Maslowski, Drinking Water Branch (3WP22) at the Philadelphia address given above; telephone (215) 814-2371 or fax (215) 814-2318.

SUPPLEMENTARY INFORMATION: All interested parties are invited to submit written comments on this determination and may request a public hearing. All comments will be considered, and, if necessary, EPA will issue a response. Frivolous or insubstantial requests for a hearing may be denied by the Regional Administrator. However, if a substantial request for a public hearing is made by January 8, 2004, a public hearing will be held.

A request for public hearing shall include the following: (1) The name, address, and telephone number of the individual, organization, or other entity requesting a hearing; (2) a brief statement of the requesting person's interest in the Regional Administrator's determination and of information that the requesting person intends to submit at such a hearing; and (3) the signature of the individual making the request; or, if the request is made on behalf of an organization or other entity, the signature of a responsible official of the organization or other entity.

Donald S. Welsh,
Regional Administrator, Region III.

[FR Doc. 03-30517 Filed 12-8-03; 8:45 am]

BILLING CODE 6560-50-P